DEPARTMENT OF COMMERCE

Foreign-Trade Zones Board

[Order No. 1264]

Grant of Authority for Subzone Status, Deepsea Flexibles, Inc., Galveston, Texas; Correction

The Federal Register notice (68 FR 2313, 1/16/03) describing Foreign-Trade Zones Board Order 1264, authorizing special-purpose subzone status for the Deepsea Flexibles, Inc. facility in Galveston, Texas (Subzone 36A), is corrected as follows:

Paragraph 8 should read “Signed at Washington, DC, this 8th day of January, 2003.”

Dated: January 16, 2003.
Dennis Puccinelli,
Executive Secretary.

[FR Doc. 03-1903 Filed 1-27-03; 8:45 am]

BILLING CODE 3510-DS-P